ENVIRONMENTAL PROTECTION AGENCY

[EPA-HQ-OPP-2009-0879; FRL-9400-8]

Exposure Modeling Public Meeting

AGENCY: Environmental Protection Agency (EPA).

ACTION: Notice of public meeting.

SUMMARY: An Exposure Modeling Public Meeting (EMPM) will be held for 1 day on October 8, 2013. This Notice announces the location and time for the meeting and sets forth the tentative agenda topics.

DATES: The meeting will be held on October 8, 2013, from 9 a.m. to 4 p.m. Requests to participate in the meeting must be received on or before October 15, 2013.

To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (North Building), Fourth Floor Conference Center (N-4830), 2777 S. Crystal Dr., Arlington, VA 22202.

FOR FURTHER INFORMATION CONTACT: Jim Carleton, Environmental Fate and Effects Division, Office of Pesticide Programs, Environmental Protection Agency, 1200 Pennsylvania Ave. NW., Washington, DC 20460-0001; telephone number: (703) 347-0335; fax number: (703) 347-8011; email address: carleton.jim@epa.gov.

SUPPLEMENTARY INFORMATION:

I. General Information

A. Does this action apply to me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, Forestry, Fishing and Hunting (NAICS code 11).

• Utilities (NAICS code 22).

• Professional, Scientific and Technical (NAICS code 54).

B. How can I get copies of this document and other related information?

The docket for this action, identified by docket identification (ID) number EPA-HQ-OPP-2009-0879, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

On a biannual interval, an Exposure Modeling Public Meeting will be held for presentation and discussion of current issues related to modeling pesticide fate, transport, and exposure for risk assessment in a regulatory context. Meeting dates and abstract requests are announced through the “empmlist” forum on the LYRIS list server at https://lists.epa.gov/read/all_forums.

III. How can I request to participate in this meeting?

You may submit a request to participate in this meeting to the person listed under FOR FURTHER INFORMATION CONTACT. Do not submit any information in your request that is considered Confidential Business Information. Requests to participate in the meeting, identified by docket ID number EPA-HQ-OPP-2009-0879, must be received on or before October 15, 2013.

IV. Tentative Topics for the Meeting

1. Estimating the magnitude of pesticide effects on avian reproductive success: Markov Chain nest productivity model (MCnest).

2. Testing the Surface Water Calculator.

3. Development of a conceptual model for estimating aquatic exposure from the use of pesticides on rice using the Pesticide Flooded Application Model.

4. Evaluation of North American Free Trade Agreement (NAFTA) kinetics guidance.

5. Comparison of multiple spray drift deposition data sets.

6. Guidance on modeling offsite deposition of pesticides via spray drift.

7. Use of the Organization for Economic Co-operation and Development, European-North American Soil Geographic Information for Pesticide Studies Tool (OECD-ENASGIPS) in U.S. settings.

8. A better sorption model for predicting pesticide behavior.

9. The significance of time-dependent sorption on leaching potential: A comparison of measured field results and modeled estimates.

10. Evaluation of Pesticide Root Zone Model—Ground Water (PRZM-GW) using long-term ground water monitoring data.

11. Comparing ground water models—why are there differences?

12. Modeling pesticide fate and transport through flowing water bodies for endangered species assessment in the California Central Valley.

13. Spatial Aquatic Model (SAM) pilot project update.

List of Subjects

Environmental protection, Endangered species assessment, Exposure modeling, Groundwater, Kinetics, Leaching, Pesticide exposure assessment, Pesticide monitoring, Sorption model, Spray drift, Surface water calculator.

Dated: September 17, 2013.
Jim Cowles,
Acting Director, Environmental Fate and Effects Division, Office of Pesticide Programs.

[FR Doc. 2013-24123 Filed 10-1-13; 8:45 am]

BILLING CODE 6560-50-P